DEPARTMENT OF TRANSPORTATION

Federal Aviation Administration

14 CFR Part 39

[Docket No. 2001-SW-49-AD; Amendment 39-12470; AD 2001-19-52]

RIN 2120-AA64

Airworthiness Directives; Bell Helicopter Textron Canada Model 222, 222B, 222U, and 230 Helicopters

AGENCY: Federal Aviation Administration, DOT.

ACTION: Final rule; request for comments.

SUMMARY: This document publishes in the Federal Register an amendment adopting Airworthiness Directive (AD) 2001-19-52 which was sent previously to all known U.S. owners and operators of Bell Helicopter Textron Canada (BHTC) Model 222, 222B, 222U, and 230 helicopters by individual letters. This AD requires removing certain serial-numbered main rotor pendulum weight supports from service and replacing with airworthy main rotor pendulum weight supports. This AD is prompted by the failure of a main rotor pendulum weight support (support) resulting in shedding of the weights and an increased level of main rotor vibration. The actions specified by this AD are intended to prevent failure of a support, loss of a weight set resulting in main rotor vibration, and subsequent loss of control of the helicopter.

DATES: Effective October 30, 2001, to all persons except those persons to whom it was made immediately effective by Emergency AD 2001-19-52, issued on September 21, 2001, which contained the requirements of this amendment.

Comments for inclusion in the Rules Docket must be received on or before December 14, 2001.

ADDRESSES: Submit comments in triplicate to the Federal Aviation Administration (FAA), Office of the Regional Counsel, Southwest Region, Attention: Rules Docket No. 2001-SW-49-AD, 2601 Meacham Blvd., Room 663, Fort Worth, Texas 76137. You may also send comments electronically to the Rules Docket at the following address: 9-asw-adcomments@faa.gov.

FOR FURTHER INFORMATION CONTACT: Jim Grigg, Aviation Safety Engineer, FAA, Rotorcraft Directorate, Regulations Group, Fort Worth, Texas 76193-0110, telephone (817) 222-5490, fax (817) 222-5961.

SUPPLEMENTARY INFORMATION: On September 21, 2001, the FAA issued Emergency AD 2001-19-52, for BHTC Model 222, 222B, 222U, and 230 helicopters, which requires removing certain serial-numbered supports from service and replacing them with airworthy supports. That action was prompted by the failure of a support resulting in shedding of the weights and an increased level of main rotor vibration. Subsequent investigation revealed that the failed support had manufacturing defects. This condition, if not corrected, could result in failure of a support, loss of a weight set resulting in main rotor vibration, and subsequent loss of control of the helicopter.

Transport Canada, which is the airworthiness authority for Canada, notified the FAA that an unsafe condition may exist on BHTC Model 222, 222B, 222U, and 230 helicopters. Transport Canada advises that due to manufacturing discrepancies, certain supports, if not replaced, could fail in flight.

BHTC has issued Alert Service Bulletins 222-01-91, 222U-01-62, and 230-01-24, all dated May 18, 2001, which describe procedures for replacing all supports identified with a serial number (S/N) having the prefix “HD.” Transport Canada classified these service bulletins as mandatory and issued AD CF-2001-28, dated July 24, 2001, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

Since the unsafe condition described is likely to exist or develop on other BHTC Model 222, 222B, 222U, and 230 helicopters of the same type designs, the FAA issued Emergency AD 2001-19-52 to prevent failure of a support, loss of a weight set resulting in main rotor vibration, and subsequent loss of control of the helicopter. The AD requires, within 25 hours time-in-service (TIS) or 3 months, whichever occurs first, removing from service all supports, part number 222-011-114-103, with a S/N having the prefix “HD” and replacing them with airworthy supports. The short compliance time involved is required because the previously described critical unsafe condition can adversely affect the structural integrity of the helicopter. Therefore, the actions described previously are required at the specified time intervals, and this AD must be issued immediately.

Since it was found that immediate corrective action was required, notice and opportunity for prior public comment thereon were impracticable and contrary to the public interest, and good cause existed to make the AD effective immediately by individual letters issued on September 21, 2001, to all known U.S. owners and operators of BHTC Model 222, 222B, 222U, and 230 helicopters. These conditions still exist, and the AD is hereby published in the Federal Register as an amendment to 14 CFR 39.13 to make it effective to all persons. However, the Emergency AD contained an error when listing the Transport Canada AD number. The number was incorrectly listed as AD CF-2001-2B; the correct number is AD CF-2001-28. There was also a comma instead of a period at the end of Note 4 of the Emergency AD. The FAA discovered these errors and posted a corrected Emergency AD on the Internet at http://av-info.faa.gov/ad/ad.htm. The FAA has determined that these changes neither increase the economic burden on an operator nor increase the scope of the AD.

The FAA estimates that 112 helicopters of U.S. registry will be affected by this AD, that it will take approximately 6 work hours per helicopter to accomplish the required actions, and the average labor rate is $60 per work hour. The manufacturer states in its service bulletins that owners/operators complying with the service bulletin on or before December 31, 2001 will receive a special 100% warranty credit for the necessary parts. Based on these figures, the total cost impact of the AD on U.S. operators is estimated to be $20,160 ($360 per helicopter, assuming half the fleet has supports replaced and assuming the actions are accomplished by the specified date and that the manufacturer's instructions for receiving the credit are followed).

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-49-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-19-52 Bell Helicopter Textron Canada: Amendment 39-12470. Docket No. 2001-SW-49-AD.

Applicability: Model 222, serial number (S/N) 47006 through 47089; Model 222B, S/N 47131 through 47156; Model 222U, S/N 47501 through 47574; and Model 230, S/N 23001 through 23038 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Within 25 hours time-in-service or 3 months, whichever occurs first, unless accomplished previously.

To prevent failure of a main rotor pendulum weight support (support), loss of a weight set resulting in main rotor vibration, and subsequent loss of control of the helicopter, accomplish the following:

(a) Remove from service all supports, part number 222-011-114-103, identified with a serial number having the prefix “HD” and replace with airworthy supports that do not have the S/N prefix “HD.”

Note 2: Bell Helicopter Textron Canada Alert Service Bulletins 222-01-91, 222U-01-62, and 230-01-24, all dated May 18, 2001, pertain to the subject of this AD.

(b) An alternative method of compliance or adjustment of the compliance time that provides an acceptable level of safety may be used if approved by the Manager, Regulations Group, FAA. Operators shall submit their requests through an FAA Principal Maintenance Inspector, who may concur or comment and then send it to the Manager, Regulations Group.

Note 3: Information concerning the existence of approved alternative methods of compliance with this AD, if any, may be obtained from the Regulations Group.

(c) Special flight permits may be issued in accordance with 14 CFR 21.197 and 21.199 to operate the helicopter to a location where the requirements of this AD can be accomplished.

(d) Emergency AD 2001-19-52, issued September 21, 2001, becomes effective upon receipt.

Note 4: The subject of this AD is addressed in Transport Canada (Canada) AD CF-2001-28, dated July 24, 2001.

(e) This amendment becomes effective on October 30, 2001, to all persons except those persons to whom it was made immediately effective by Emergency AD 2001-19-52, issued September 21, 2001, which contained the requirements of this amendment.

Issued in Fort Worth, Texas, on October 4, 2001.
Mark R. Schilling,
Acting Manager, Rotorcraft Directorate, Aircraft Certification Service.

[FR Doc. 01-25692 Filed 10-12-01; 8:45 am]

BILLING CODE 4910-13-U